DEPARTMENT OF HEALTH AND HUMAN SERVICES

National Institutes of Health

National Institute of Mental Health; Amended Notice of Meeting

Notice is hereby given of a change in the meeting of the National Institute of Mental Health Special Emphasis Panel, November 16, 2006, 8 a.m. to 5 p.m., Holiday Inn Georgetown, 2101 Wisconsin Avenue, NW., Washington, DC 20007 which was published in the Federal Register on September 29, 2006, 71 FR 57553.

The meeting will be held 10:30 a.m. to 5 p.m., same date and place. The meeting is closed to the public.

Dated: October 5, 2006.
Linda Payne,
Acting Director, Office of Federal Advisory Committee Policy.

[FR Doc. 06-8701 Filed 10-13-06; 8:45 am]

BILLING CODE 4140-01-M